DEPARTMENT OF ENERGY

Federal Energy Regulatory Commission

Combined Notice of Filings #1

Take notice that the Commission received the following Complaints and Compliance filings in EL Dockets:

Docket Numbers: EL23-51-000.

Applicants: American Municipal Power, Inc., et al. v. AEP Appalachian Transmission Company Inc., et al.

Description: Joint Formal Challenge and Complaint of American Municipal Power, Inc., et al. v. AEP Appalachian Transmission Company Inc., et al.

Filed Date: 3/15/23.

Accession Number: 20230315-5231.

Comment Date: 5 p.m. ET 4/11/23.

Take notice that the Commission received the following electric rate filings:

Docket Numbers: ER21-2678-004.

Applicants: Westlands Transmission, LLC.

Description: Compliance filing: Settlement—Approved Effective Date—Solar Blue (ER21-2678-) to be effective 10/13/2021.

Filed Date: 3/30/23.

Accession Number: 20230330-5213.

Comment Date: 5 p.m. ET 4/20/23.

Docket Numbers: ER21-2679-004.

Applicants: Westlands Transmission, LLC.

Description: Compliance filing: Settlement—Approved Effective Date—Grape (ER21-2679-) to be effective 10/13/2021.

Filed Date: 3/30/23.

Accession Number: 20230330-5205.

Comment Date: 5 p.m. ET 4/20/23.

Docket Numbers: ER21-2680-004.

Applicants: Westlands Transmission, LLC.

Description: Compliance filing: Settlement—Approved Effective Date—Chestnut (ER21-2680-) to be effective 10/13/2021.

Filed Date: 3/30/23.

Accession Number: 20230330-5198.

Comment Date: 5 p.m. ET 4/20/23.

Docket Numbers: ER21-2681-004.

Applicants: Westlands Transmission, LLC.

Description: Compliance filing: Settlement—Approved Effective Date—Cherry (ER21-2681-) to be effective 10/13/2021.

Filed Date: 3/30/23.

Accession Number: 20230330-5196.

Comment Date: 5 p.m. ET 4/20/23.

Docket Numbers: ER23-1041-001.

Applicants: Florida Power & Light Company.

Description: Tariff Amendment: FPL Amendment to Attachment A Specifications for Amended TSA No. 332 to be effective 1/4/2023.

Filed Date: 3/30/23.

Accession Number: 20230330-5129.

Comment Date: 5 p.m. ET 4/20/23.

Docket Numbers: ER23-1512-000.

Applicants: Westlake Natrium LLC.

Description: Baseline eTariff Filing: Application for Market Based Rate Authority to be effective 5/29/2023.

Filed Date: 3/30/23.

Accession Number: 20230330-5000.

Comment Date: 5 p.m. ET 4/20/23.

Docket Numbers: ER23-1513-000.

Applicants: Pacific Gas and Electric Company.

Description: Tariff Amendment: Termination of High Winds, LLC (TO SA 40) to be effective 5/30/2023.

Filed Date: 3/30/23.

Accession Number: 20230330-5001.

Comment Date: 5 p.m. ET 4/20/23.

Docket Numbers: ER23-1514-000.

Applicants: PECO Energy Company, PJM Interconnection, L.L.C.

Description: § 205(d) Rate Filing: PECO Energy Company submits tariff filing per 35.13(a)(2)(iii: PECO submits revisions to Formula Rate, OATT Attachment H-7A to be effective 5/30/2023.

Filed Date: 3/30/23.

Accession Number: 20230330-5026.

Comment Date: 5 p.m. ET 4/20/23.

Docket Numbers: ER23-1515-000.

Applicants: PJM Interconnection, L.L.C.

Description: § 205(d) Rate Filing: Amendment to ISA, Service Agreement No. 5859; Queue No. AD1-081 to be effective 5/29/2023.

Filed Date: 3/30/23.

Accession Number: 20230330-5054.

Comment Date: 5 p.m. ET 4/20/23.

Docket Numbers: ER23-1516-000.

Applicants: Southwest Power Pool, Inc.

Description: § 205(d) Rate Filing: Tariff Clean-Up Filing for NorthWestern Formula Rate to be effective 9/1/2021.

Filed Date: 3/30/23.

Accession Number: 20230330-5055.

Comment Date: 5 p.m. ET 4/20/23.

Docket Numbers: ER23-1517-000.

Applicants: IP Oberon II, LLC.

Description: Baseline eTariff Filing: Application for Market Based Rate Tariff to be effective 5/30/2023.

Filed Date: 3/30/23.

Accession Number: 20230330-5147.

Comment Date: 5 p.m. ET 4/20/23.

Docket Numbers: ER23-1518-000.

Applicants: Midcontinent Independent System Operator, Inc.

Description: § 205(d) Rate Filing: 2023-03-30_SA 3006 Duke-Jordan Creek 4th Rev GIA (J515 J1470) to be effective 3/21/2023.

Filed Date: 3/30/23.

Accession Number: 20230330-5164.

Comment Date: 5 p.m. ET 4/20/23.

Docket Numbers: ER23-1519-000.

Applicants: Atlas Solar, III, LLC.

Description: Baseline eTariff Filing: Atlas Solar III MBR Application Filing to be effective 3/31/2023.

Filed Date: 3/30/23.

Accession Number: 20230330-5211.

Comment Date: 5 p.m. ET 4/20/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2023.
Debbie-Anne A. Reese,
Deputy Secretary.

[FR Doc. 2023-07106 Filed 4-4-23; 8:45 am]

BILLING CODE 6717-01-P